DEPARTMENT OF THE INTERIOR

Bureau of Reclamation

Contra Costa Water District Alternative Intake Project, Contra Costa and San Joaquin Counties, CA

AGENCY: Bureau of Reclamation, Interior.

ACTION: Notice of availability of the Final Environmental Impact Report/ Environmental Impact Statement (EIR/EIS).

SUMMARY: The Bureau of Reclamation (Reclamation) and the Contra Costa Water District (CCWD) have prepared a Final EIR/EIS for the proposed Contra Costa Water District Alternative Intake Project. The Draft EIR/EIS evaluated the potential environmental effects of five alternatives: the No-Action Alternative and four action alternatives. The Final EIR/EIS contains responses to comments received on the Draft EIR/EIS.

A Notice of Availability of the Draft EIR/EIS was published in the Federal Register on Wednesday, May 10, 2006 (71 FR 27275). The public review period on the Draft EIR/EIS ended on Monday, June 26, 2006.

DATES: Reclamation will not make a decision on the Proposed Action until at least 30 days after release of the Final EIR/EIS. At the end of the 30-day period, Reclamation will complete a Record of Decision (ROD). The ROD will state the action that will be implemented and will discuss all factors leading to the decision.

ADDRESSES: Copies of the Final EIR/EIS may be requested from Ms. Samantha Salvia, Project Manager, Contra Costa Water District, P.O. Box H2O, Concord, CA 94524-2099; telephone: 925-688-8057; e-mail: alternativeintake@ccwater.com. Copies of the Final EIR/EIS are available for public inspection at:

• Bureau of Reclamation, Regional Library, 2800 Cottage Way, Sacramento, CA.

• Contra Costa Water District, 1331 Concord Ave., Concord, CA.

• Antioch Public Library, 501 W. 18th Street, Antioch, CA .

• Brentwood Public Library, 751 Third Street, Brentwood, CA.

• Concord Public Library, 2900 Salvio Street, Concord, CA.

The Final EIR/EIS and related documents are also available at Reclamation's Web site at www.usbr.gov/mp/nepa/nepa_projdetails.cfm?Project_ID=1818 and CCWD's project Web site at http://www.ccwater-alternativeintake.com.

FOR FURTHER INFORMATION CONTACT: Ms. Katrina Chow, Project Manager, Bureau of Reclamation, Mid-Pacific Region, 2800 Cottage Way, MP-730, Sacramento, CA 95825-1898, 916-978-5067, kchow@mp.usbr.gov; or Ms. Samantha Salvia, Project Manager, Contra Costa Water District, P.O. Box H2O, Concord, CA 94524-2099, 925-688-8057, alternativeintake@ccwater.com.

SUPPLEMENTARY INFORMATION: The project purpose is to protect and improve the quality of water delivered to CCWD's untreated- and treated-water customers. Project objectives are to improve delivered water quality, especially during drought periods; protect and improve health and/aesthetic benefits to customers; improve operational flexibility; and protect delivered water quality during emergencies. Water quality problems for CCWD result from elevated concentrations of salinity (chloride and bromide), minerals, organic carbon, and turbidity at CCWD's Sacramento-San Joaquin River Delta intakes. The Proposed Action includes the construction of a new intake and fish screen in the Delta on Victoria Canal, a pumping plant, and an associated 2- to 4-mile-long pipeline from the new intake across Victoria Island to CCWD's existing Old River conveyance system. Reclamation actions associated with the Proposed Action are agreeing to a change in point of diversion of Central Valley Project (CVP) water under Contract No. I75r-3401A-LTR1 and petitioning the California State Water Resources Control Board for necessary water right changes regarding point of diversion. Through the Proposed Action, CCWD is seeking to relocate some of its diversions to a Delta location with better water quality and would not seek to increase its water rights, CVP contract amounts, or permitted Los Vaqueros Reservoir filling rates.

Comments received in response to this notice will become part of the administrative record and are subject to public inspection. Our practice is to make comments, including names, home addresses, home phone numbers, and email addresses of respondents, available for public review. Individual respondents may request that we withhold their names and/or home addresses, etc., but if you wish us to consider withholding this information, you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organizations or businesses, and from individuals identifying themselves as representatives or officials of organizations or businesses, available for public inspection in their entirety.

Kirk C. Rodgers,
Regional Director, Mid-Pacific Region.

[FR Doc. E6-18579 Filed 11-2-06; 8:45 am]

BILLING CODE 4310-MN-P